DEPARTMENT OF JUSTICE

Antitrust Division

Notice Pursuant to the National Cooperative Research and Production Act of 1993—PDES, INC.

Notice is hereby given that, on April 20, 2016, pursuant to section 6(a) of the National Cooperative Research and Production Act of 1993, 15 U.S.C. 4301 et seq. (“the Act”), PDES, Inc. (“PDES”), filed written notifications simultaneously with the Attorney General and the Federal Trade Commission disclosing changes in its membership. The notifications were filed for the purpose of extending the Act's provisions limiting the recovery of antitrust plaintiffs to actual damages under specified circumstances. Specifically, Airbus, Blagnac, FRANCE; BAE Systems, London, UNITED KINGDOM; Boeing Company, Seattle, WA; Boost Conseil, Paris, FRANCE; Capvidia, Leuven, BELGIUM; CT Core Technologie, Southfield, MI; Dassault Systemes, Provence, FRANCE; Embraer, São Paulo, BRAZIL; Engesis, Rome, ITALY; Eurostep Limited, Stockholm, SWEDEN; General Electric, Cincinnati, OH; Georgia Institute of Technology, Atlanta, GA; Goodrich, Ontario, CANADA; Gulfstream Aerospace, Savannah, GA; Honeywell, Phoenix, AZ; International TechneGroup Incorporated (formerly ITI TranscenData), Milford, OH; JOTNE EPM Technology, Oslo, NORWAY; LKSoftWare GmbH, Kuenzell, GERMANY; Lockheed Martin Aeronautics, Ft. Worth, TX; NARA, Rocket Center, WV; NASA, Huntsville, AL; NIST, Gaithersburg, MD; OSD ManTech, Redstone Arsenal, AL; PTC, Blaine, ME; Purdue University, West Lafayette, IN; Sandia National Labs, Albuquerque, NM; Theorem Solutions, Staffordshire, UNITED KINGDOM; and University of South Carolina, Columbia, SC, have been added as parties to this venture.

In addition, the following parties have withdrawn as parties to this venture: Watervliet Arsenal/Tobyhanna Army Depot, Watervliet, NY; CostVision, Boulder, CO; Delphi Delco Electronics, Kokomo, IA; DoD/RAMP, Crane, IN; General Dynamics Electric Boat Division, Groton, CT; Ford Motor Company, Dearborn, MI; General Motors Corporation, Warren, MI; IBM Corporation, Southburg, CT; IDA Inc., Westchester, IL; Integrated Support Systems, Inc., Clemson, SC; MacNeal-Schwendler Corporation, Los Angeles, CA; Northrop Grumman Corporation, Pico Rivera, CA; Parametrics Technology Corporation, Waltham, MA; Rockwell Collins, Cedar Rapids, IA; Rolls Royce plc, Derby, UNITED KINGDOM; STEP Tools Inc., Troy, NY; and United Technologies Corporation/Pratt & Whitney, Hartford, CT.

No other changes have been made in either the membership or planned activity of the group research project. Membership in this group research project remains open, and PDES intends to file additional written notifications disclosing all changes in membership.

On September 20, 1988, PDES filed its original notification pursuant to section 6(a) of the Act. The Department of Justice published a notice in the Federal Register pursuant to Section 6(b) of the Act on October 14, 1988 (53 FR 40282).

The last notification was filed with the Department on August 26, 1998. A notice was published in the Federal Register pursuant to section 6(b) of the Act on January 28, 1999 (64 FR 4470).

Patricia A. Brink,
Director of Civil Enforcement, Antitrust Division.

[FR Doc. 2016-12189 Filed 5-23-16; 8:45 am]

BILLING CODE P